DEPARTMENT OF AGRICULTURE

Agricultural Marketing Service

7 CFR Ch. I

Grain Inspection, Packers and Stockyards Administration

7 CFR Ch. VIII

[Docket Number FGIS-2000-001a]

RIN 0580-AA73

Request for Public Comments on How USDA Can Best Facilitate the Marketing of Grains, Oilseeds, Fruits, Vegetables, and Nuts in Today's Evolving Marketplace

AGENCY: Agricultural Marketing Service Grain Inspection, Packers and Stockyards Administration, USDA

ACTION: Advance notice of proposed rulemaking; correction.

SUMMARY: The United States Department of Agriculture (USDA) published a document in the Federal Register of November 30, 2000, concerning request for comments on How USDA Can Best Facilitate the Marketing of Grains, Oilseeds, Fruits, Vegetables, and Nuts in Today's Evolving Marketplace. The document omitted e-mail as a means of filing public comments.

FOR FURTHER INFORMATION CONTACT: Marianne Plaus, 202-690-3460.

Correction

In the Federal Register of November 30, 2000, in FR Doc. 00-30140, on page 71272, in the second column, correct the first paragraph of the “Addresses” caption to read:

ADDRESSES: Interested persons are invited to submit written comments on this notice to Richard Hardy, GIPSA, USDA, 1400 Independence Avenue, SW., Room 0757-S, Washington, DC 20250-3650. Comments may also be sent by fax to (202) 720-2459, filed via the Internet through the GIPSA homepage at www.usda.gov/gipsa, or filed via e-mail at anpr@gipsadc.usda.gov.

Dated: December 12, 2000
David R. Shipman,
Deputy Administrator, Grain Inspection, Packers and Stockyards Administration.
Michael D. Fernandez,
Associate Administrator, Agricultural Marketing Service.

[FR Doc. 00-32158 Filed 12-15-00; 8:45 am]

BILLING CODE 3410-EN-P